DEPARTMENT OF COMMERCE

International Trade Administration

[A-423-812]

Certain Carbon and Alloy Steel Cut-To-Length Plate From Belgium: Final Results of Antidumping Duty Administrative Review; 2016-2018

AGENCY: Enforcement and Compliance, International Trade Administration, Department of Commerce.

SUMMARY: The Department of Commerce (Commerce) finds that the producers/exporters subject to this administrative review made sales of subject merchandise at less than normal value during the period of review (POR), November 14, 2016 through April 30, 2018.

DATES: Applicable January 17, 2020.

FOR FURTHER INFORMATION CONTACT: Brittany Bauer or Alex Wood, AD/CVD Operations, Office II, Enforcement and Compliance, International Trade Administration, U.S. Department of Commerce, 1401 Constitution Avenue NW, Washington, DC 20230; telephone: (202) 482-3860 or (202) 482-1959, respectively.

SUPPLEMENTARY INFORMATION:

Background

This review covers eight producers/exporters of the subject merchandise. Commerce selected two companies, Industeel Belgium S.A. (Industeel) and NLMK Clabecq S.A./NLMK Plate Sales S.A./NLMK Sales Europe S.A./NLMK Manage Steel Center S.A./NLMK La Louviere S.A. (collectively, NLMK Belgium), for individual examination. The producers and/or exporters not selected for individual examination are listed in the “Final Results of the Review” section of this notice.

On July 17, 2019, Commerce published the Preliminary Results.¹ For a description of the events that occurred since the Preliminary Results, see the Issues and Decision Memorandum.² On October 23, 2019, we postponed the final results by 57 days, until January 10, 2020.³

¹ See Certain Carbon and Alloy Steel Cut-To Length Plate from Belgium: Preliminary Results of Antidumping Duty Administrative Review; 2016-2018, 84 FR 34129 (July 17, 2019) (Preliminary Results).

² See Memorandum, “Issues and Decision Memorandum for the Final Results of the 2016-2018 Administrative Review of the Antidumping Duty Order on Certain Carbon and Alloy Steel Cut-To-Length Plate from Belgium,” dated concurrently with these results (Issues and Decision Memorandum), which is hereby adopted by this notice.

³ See Memorandum, “Carbon and Alloy Steel Cut-To-Length Plate from Belgium: Extension of Deadline for Final Results of 2016-2018 Antidumping Duty Administrative Review,” dated October 23, 2019.

Commerce conducted this administrative review in accordance with section 751 of the Tariff Act of 1930, as amended (the Act).

Scope of the Order

The merchandise subject to the order is certain carbon and alloy steel cut-to-length plate from Belgium. The product is currently classified under the following Harmonized Tariff Schedule on the United States (HTSUS) item numbers: 7208.40.3030, 7208.40.3060, 7208.51.0030, 7208.51.0045, 7208.51.0060, 7208.52.0000, 7211.13.0000, 7211.14.0030, 7211.14.0045, 7225.40.1110, 7225.40.1180, 7225.40.3005, 7225.40.3050, 7226.20.0000, and 7226.91.5000. Although the HTSUS numbers are provided for convenience and for customs purposes, the written product description remains dispositive. For a complete description of the scope of the order, see the Issues and Decision Memorandum which accompanies this notice.

Analysis of Comments Received

All issues raised in the case and rebuttal briefs are listed in the appendix to this notice and addressed in the Issues and Decision Memorandum. The Issues and Decision Memorandum is a public document and is on file electronically via Enforcement and Compliance's Antidumping and Countervailing Duty Centralized Electronic Service System (ACCESS). ACCESS is available to registered users at http://access.trade.gov, and to all interested parties in the Central Records Unit, room B8024, of the main Commerce building. In addition, a complete version of the Issues and Decision Memorandum can be accessed directly at http://enforcement.trade.gov/frn/index.html. The signed and electronic versions of the Issues and Decision Memorandum are identical in content.

Changes Since the Preliminary Results

Based on a review of the record and comments received from interested parties regarding our Preliminary Results, we made certain changes to the preliminary weighted-average dumping margins for Industeel and NLMK Belgium, and for those companies not selected for individual review.⁴

⁴ See accompanying Issues and Decision Memorandum.

Final Results of the Review

We are assigning the following weighted-average dumping margins to the firms listed below for the period November 14, 2016 through April 30, 2018:

⁵ This rate is based on the rates for the respondents that were selected for individual review, excluding rates that are zero, de minimis, or based entirely on facts available. See section 735(c)(5)(A) of the Act.

Producers/exporters | Weighted- average dumping margins (percent)
Industeel Belgium S.A | 4.75
NLMK Clabecq S.A./NLMK Plate Sales S.A./NLMK Sales Europe S.A./NLMK Manage Steel Center S.A./NLMK La Louviere S.A | 16.14
Hengelhoef Concrete Joints NV * | 13.53
Sarens NV * | 13.53
Thyssenkrupp Materials Belgium N.V. * | 13.53
Universal Eisen und Stahl GmbH * | 13.53
Valvan Baling Systems * | 13.53
Voestalpine Belgium NV. * | 13.53
* Review-Specific Average Rate ⁵

Disclosure of Calculations

We intend to disclose the calculations performed for these final results to parties in this proceeding within five days of the date of publication of this notice, in accordance with 19 CFR 351.224(b).

Assessment Rates

Pursuant to section 751(a)(2)(C) of the Act, and 19 CFR 351.212(b)(1), Commerce has determined, and U.S. Customs and Border Protection (CBP) shall assess, antidumping duties on all appropriate entries of subject merchandise in accordance with the final results of this review.

Pursuant to 19 CFR 351.212(b)(1), where Industeel and NLMK Belgium reported the entered value of their U.S. sales, we calculated importer-specific ad valorem duty assessment rates based on the ratio of the total amount of dumping calculated for the examined sales to the total entered value of the sales for which entered value was reported. Where the respondents did not report entered value, we calculated the entered value in order to calculate the assessment rate. Where either the respondent's weighted-average dumping margin is zero or de minimis within the meaning of 19 CFR 351.106(c)(1), or an importer-specific rate is zero or de minimis, we will instruct CBP to liquidate the appropriate entries without regard to antidumping duties. We further will instruct CBP to take into account the “provisional measures deposit cap,” in accordance with 19 CFR 351.212(d). The final results of this review shall be the basis for the assessment of antidumping duties on entries of merchandise covered by the final results of this review.⁶

⁶ See section 751(a)(2)(C) of the Act.

Commerce's “reseller policy” will apply to entries of subject merchandise during the POR produced by companies included in these final results of review for which the reviewed companies did not know that the merchandise they sold to the intermediary (e.g., a reseller, trading company, or exporter) was destined for the United States. In such instances, we will instruct CBP to liquidate unreviewed entries at the all-others rate if there is no rate for the intermediate company(ies) involved in the transaction.

For the companies which were not selected for individual review, we will assign an assessment rate based on the average of the cash deposit rates calculated for Industeel and NLMK Belgium.⁷ The final results of this review shall be the basis for the assessment of antidumping duties on entries of merchandise covered by the final results of this review and for future deposits of estimated duties, where applicable.⁸

⁷ This rate was calculated as discussed in footnote 5.

⁸ See section 751(a)(2)(C) of the Act.

We intend to issue liquidation instructions to CBP 15 days after publication of the final results of this review.

Cash Deposit Requirements

The following cash deposit requirements will be effective for all shipments of the subject merchandise entered, or withdrawn from warehouse, for consumption on or after the publication date of the final results of this administrative review, as provided by section 751(a)(2)(C) of the Act: (1) The cash deposit rate for each specific company listed above will be equal to the weighted-average dumping margin that is established in the final results of this review, except if the rate is less than 0.50 percent and, therefore, de minimis within the meaning of 19 CFR 351.106(c)(1), in which case the cash deposit rate will be zero; (2) for companies not participating in this review, the cash deposit rate will continue to be the company-specific cash deposit rate published for the most recently completed segment of this proceeding in which the company participated; (3) if the exporter is not a firm covered in this review, or the original less-than-fair-value (LTFV) investigation, but the producer is, the cash deposit rate will be the cash deposit rate established for the most recently completed segment for the producer of the subject merchandise; and (4) the cash deposit rate for all other producers or exporters will continue to be 5.40 percent, the all-others rate established in the LTFV investigation.⁹ These deposit requirements, when imposed, shall remain in effect until further notice.

⁹ See Certain Carbon and Alloy Steel Cut-To-Length Plate from Austria, Belgium, France, the Federal Republic of Germany, Italy, Japan, the Republic of Korea, and Taiwan: Amended Final Affirmative Antidumping Determinations for France, the Federal Republic of Germany, the Republic of Korea and Taiwan, and Antidumping Duty Orders, 82 FR 24096, 24098 (May 25, 2017).

Notification to Importers

This notice serves as a reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Administrative Protective Order

This notice also serves as a reminder to parties subject to administrative protective order (APO) of their responsibility concerning the disposition of proprietary information disclosed under APO in accordance with 19 CFR 351.305(a)(3), which continues to govern business proprietary information in this segment of the proceeding. Timely written notification of return/destruction of APO materials or conversion to judicial protective order is hereby requested. Failure to comply with the regulations and the terms of an APO is a sanctionable violation.

Notification to Interested Parties

We are issuing and publishing this notice in accordance with sections 751(a)(1) and 777(i)(1) of the Act, and 19 CFR 351.221(b)(5).

Dated: January 10, 2020.
Jeffrey I. Kessler,
Assistant Secretary for Enforcement and Compliance.

Appendix—List of Topics Discussed in the Issues and Decision Memorandum

I. Summary

II. Background

III. Scope of the Order

IV. Margin Calculations

V. Discussion of the Issues

Comments Pertaining to Industeel

Comment 1: Accounting for Industeel's Rebate Costs

Comment 2: Write-down of Industeel's Inventory Reserves

Comments Pertaining to NLMK Belgium

Comment 3: Use of Adverse Facts Available

Comment 4: Use of Partial Adverse Facts Available

Comment 5: Difference-in-Merchandise Adjustment

Comment 6: Level of Trade

Comment 7: Alternative Calculation of Indirect Selling Expenses

Comment 8: Calculating Home Market Short-term Borrowing

Comment 9: Calculating U.S. Short-term Borrowing

Comment 10: Adjustments to International Freight Expense

Comment 11: U.S. Billing Adjustment

Comment 12: Adjustments to U.S. Freight Revenue

Comment 13: Home Market Inland Freight and Warehouse Expense Adjustments

VI. Recommendation

[FR Doc. 2020-00760 Filed 1-16-20; 8:45 am]

BILLING CODE 3510-DS-P